DEPARTMENT OF HEALTH AND HUMAN SERVICES

Food and Drug Administration

[Docket No. FDA-2017-N-6644]

Fiscal Year 2020 Generic Drug Regulatory Science Initiatives; Public Workshop; Remote Only

AGENCY: Food and Drug Administration, HHS.

ACTION: Notice.

SUMMARY: The Food and Drug Administration is announcing that the following public workshop entitled “FY 2020 Generic Drug Regulatory Science Initiatives” announced in the Federal Register on March 10, 2020, is being modified to take place remotely.

DATES: The public workshop will be held on May 4, 2020, from 8:30 a.m. to 4:30 p.m. Submit either electronic or written comments on this public workshop by June 4, 2020. See the SUPPLEMENTARY INFORMATION section for registration and participation information.

FOR FURTHER INFORMATION CONTACT: Stephanie Choi, Center for Drug Evaluation and Research, Food and Drug Administration, 10903 New Hampshire Ave., Bldg. 75, Rm. 4732, Silver Spring, MD 20993-0002, 240-402-7960, Stephanie.Choi@fda.hhs.gov; or Robert Lionberger, Center for Drug Evaluation and Research, Food and Drug Administration, 10903 New Hampshire Ave., Bldg. 75, Rm. 4722, Silver Spring, MD 20993, 240-402-7957, Robert.Lionberger@fda.hhs.gov.

SUPPLEMENTARY INFORMATION: Due to the ongoing COVID-19 pandemic, this workshop announced in the Federal Register on March 10, 2020 (85 FR 13905) is being changed from in person to remote only. How to register and participate in this remote meeting will be communicated on the FDA web page at the following address: https://www.fda.gov/news-events/fda-meetings-conferences-and-workshops/fy-2020-generic-drug-regulatory-science-initiatives-public-workshop-05042020-05042020.

Dated: April 24, 2020.
Lowell J. Schiller,
Principal Associate Commissioner for Policy.

[FR Doc. 2020-09168 Filed 4-29-20; 8:45 am]

BILLING CODE 4164-01-P